DEPARTMENT OF THE INTERIOR

Bureau of Land Management

[AZ-910-0777-XP-241A]

State of Arizona Resource Advisory Council Meeting

AGENCY: Bureau of Land Management, Interior.

ACTION: Arizona Resource Advisory Council Meeting notice.

SUMMARY: This notice announces a meeting and tour of the Arizona Resource Advisory Council (RAC).

The business meeting will beheld on August 23, 2005, in Safford, Arizona, at the Manor House located at 415 E. Highway 70 in Safford. It will begin at 9:30 a.m. and conclude at 4:30 p.m. The agenda items to be covered include: Review of the May 3, 2005 Meeting Minutes; BLM State Directors' Update on Statewide Issues; Presentations on the Gila Watershed Council, San Simon Watershed, Arizona Land use Planning Updates, Saginaw Hill Update; and RAC Questions on Written Reports from BLM Field Managers; Field Office Rangeland Resource Team proposals; Reports by the Standards and Guidelines, Recreation, Off-Highway Vehicle Use, Public Relations, Land Use Planning and Tenure, and Wild Horse and Burro Working Groups; Reports from RAC members; and Discussion of future meetings. A public comment period will be provided at 11 a.m. on August 23, 2005 for any interested publics who wish to address the Council.

On August 24, the RAC will tour several public land areas in the Safford Field Office. BLM will highlight the San Simon Watershed Project, Hotwell Dunes Off-Highway Vehicle Area, and some of the areas paleontological resources. The tour will be conducted from approximately 6 a.m. to 1 p.m.

FOR FURTHER INFORMATION CONTACT: Deborah Stevens, Bureau of Land Management, Arizona State Office, 222 North Central Avenue, Phoenix, Arizona 85004-2203, (602) 417-9215.

Carl Rountree,
Acting Arizona State Director.

[FR Doc. 05-14926 Filed 7-27-05; 8:45 am]

BILLING CODE 4310-32-M